DEPARTMENT OF HOMELAND SECURITY

Coast Guard

46 CFR Part 67

[Docket No. USCG-2010-0990]

RIN 1625-AB56

Vessel Documentation Renewal Fees

AGENCY: Coast Guard, DHS.

ACTION: Notice of proposed rulemaking.

SUMMARY: The Coast Guard proposes to amend its regulations to separately list an annual fee for renewals of endorsements upon the Certificate of Documentation. The Coast Guard is required to establish user fees for services related to the documentation of vessels. This proposed rule would separately list a fee of $26 to cover the current costs of the vessel documentation services provided by the Coast Guard.

DATES: Comments and related material must either be submitted to our online docket via http://www.regulations.gov on or before May 3, 2013 or reach the Docket Management Facility by that date.

ADDRESSES: You may submit comments identified by docket number USCG 2010-0990 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or email Mary Jager, CG-DCO-832, Coast Guard, telephone 202-372-1331, email Mary.K.Jager@uscg.mil. If you have questions on viewing or submitting material to the docket, call Renee V. Wright, Program Manager, Docket Operations, telephone 202-366-9826.

SUPPLEMENTARY INFORMATION:

Table of Contents for Preamble

I. Public Participation and Request for Comments

A. Submitting Comments

B. Viewing Comments and Documents

C. Privacy Act

D. Public Meeting

II. Abbreviations

III. Background

IV. Discussion of Proposed Rule

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Public Participation and Request for Comments

We encourage you to participate in this rulemaking by submitting comments and related materials. All comments received will be posted without change to http://www.regulations.gov and will include any personal information you have provided.

A. Submitting Comments

If you submit a comment, please include the docket number for this rulemaking (USCG-2010-0990), indicate the specific section of this document to which each comment applies, and provide a reason for each suggestion or recommendation. You may submit your comments and material online or by fax, mail, or hand delivery, but please use only one of these means. We recommend that you include your name and a mailing address, an email address, or a phone number in the body of your document so that we can contact you if we have questions regarding your submission.

To submit your comment online, go to http://www.regulations.gov and type “USCG-2010-0990” in the “Keyword” box. If you submit your comments by mail or hand delivery, submit them in an unbound format, no larger than 8½ by 11 inches, suitable for copying and electronic filing. If you submit comments by mail and would like to know that they reached us, please enclose a stamped, self-addressed postcard or envelope.

We will consider all comments and material received during the comment period and may change this proposed rule based on your comments.

B. Viewing Comments and Documents

To view comments, as well as documents mentioned in this preamble as being available in the docket, go to http://www.regulations.gov and insert “USCG-2010-0990” in the “Search” box. Click “Search.” Click the “Open Docket Folder” in the “Actions” column. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

D. Public Meeting

We do not now plan to hold a public meeting. But you may submit a request for one to the docket using one of the methods specified under ADDRESSES. In your request, explain why you believe a public meeting would be beneficial. If we determine that one would aid this rulemaking, we will hold one at a time and place announced by a later notice in the Federal Register (FR).

II. Abbreviations

CFR Code of Federal Regulations

COD Certificate of Documentation

DHS Department of Homeland Security

FR Federal Register

MISLE Marine Safety Information Law Enforcement

NEPA National Environmental Policy Act of 1969

NTTAA National Technology Transfer and Advancement Act

NVDC National Vessel Documentation Center

OMB Office of Management and Budget

§ Section symbol

SBA Small Business Administration

U.S.C. United States Code

III. Background

The Omnibus Budget Reconciliation Act of 1990 (the “Act”) (Pub. L. 101-508, § 10401, Nov. 5, 1990, 104 Stat. 1388), codified at 46 U.S.C. 2110, requires that the Coast Guard establish user fees for Coast Guard vessel documentation services. In establishing these fees, we are required to use the criteria found in 31 U.S.C. 9701, including, among other things, that the fees be fair, be based on the costs to the government, and reflect the value of the service or thing to the recipient, the public policy or interest served. See 31 U.S.C. 9701(b). We also set fees at an amount calculated to achieve recovery of the costs to the Federal Government of providing the service in a manner consistent with the general user charges principles set forth in OMB Circular A-25. Under that OMB Circular, each recipient should pay a reasonable user charge for Federal Government services, resources, or goods from which he or she derives a special benefit, at an amount sufficient for the Federal Government to recover the full costs of providing the service, resource, or good. See OMB Circular A-25, sec. 6(a)(2)(a).

We last promulgated our user fees for vessel documentation services on November 15, 1993 (58 FR 60256), found at 46 CFR part 67, subpart Y-Fees. The fees reflect the Coast Guard's program costs for 1993. Since then, these costs have increased. The existing fees do not cover the operating and overhead costs associated with our vessel documentation and recording activities under 46 U.S.C. chapters 121 and 313. This rule proposes to update those fees.

Specifically, this rule proposes to charge a separate annual fee for renewals of endorsements upon a Certificate of Documentation (COD). A COD is required for the operation of a vessel in certain trades, serves as evidence of vessel nationality, and permits a vessel to be subject to preferred mortgages. 46 CFR 67.1. The proposed COD renewal fee would more accurately reflect the Coast Guard's current operating and overhead costs associated with providing these discrete services. While we previously included the cost of providing annual COD renewals as part of its overhead costs, the fees collected in relation to these costs do not nearly cover our operating and overhead costs associated with providing annual COD renewal services. Therefore, the we to break out and separately charge an annual renewal fee (shown in Table 67.550-Fees) to cover the cost of providing the required annual COD renewal services.

The Coast Guard's fiscal year 2010 review of vessel documentation user charges, “Vessel Documentation Biennial User Fee Review,” is available in the docket where indicated under the “Public Participation and Request for Comments” section in this preamble. The Biennial User Fee Review recommended establishment of an annual fee for COD renewals. It also recommended establishment of a fee for resubmittals of requests for services such as applications, determinations, waivers, etc. We have elected not to pursue the latter recommendation at this time, but will consider this fee in future studies and possibly in future rulemaking actions.

Presently, we charge several other fees associated with vessel documentation and we anticipate that further review (as required by OMB Circular Number A-25) of these fees and the cost of service will result in additional proposed adjustments to reflect changes in cost and provision of services. Any of these additional proposed adjustments would be the subject of a separate rulemaking.

IV. Discussion of Proposed Rule

Through this proposed rule, the Coast Guard would revise 46 CFR 67.515 to provide for a $26 fee for annual renewals of endorsements upon the COD and to explain that the late fee, which is an existing fee, is in addition to the annual COD renewal fee. The proposed fee is less than the average annual fee charged by states for similar activities leading to vessel registration. Furthermore, the proposed fee is less than the annual fee for recreational vessels authorized by Congress for collection in 1993 and 1994. During those years, an annual fee for recreational vessels was instituted with fees ranging from $35 to $100. See Public Law 102-582, Title V, § 501(a), Nov. 2, 1992, 106 Stat. 4909.

We also propose removing and reserving paragraph (b) in 46 CFR 67.500, because it states that there is no fee for annual renewal of endorsements upon the COD. Lastly, we propose to amend the fee table in 46 CFR 67.550 to include the annual COD renewal fee.

We propose the annual COD renewal fee to increase collections by the amounts authorized so that the fees we charge would more accurately reflect the actual costs to the Coast Guard of providing the annual COD renewal services. We estimate that this proposed fee would generate an additional $6.1 million annually. The additional collections generated through the annual COD renewal fee should offset the costs of providing these services.

According to the Vessel Documentation Biennial User Fee Review, which can be found in the Docket for this rulemaking, the full cost of vessel documentation services for fiscal year 2009 was $11.3 million, while total fees collected totaled $5.3 million, as shown in Table 1. Fees are currently collected for 22 activities associated with vessel documentation that are listed in Table 67.550 of 46 CFR part 67. Currently, no separate fee is collected to cover the cost of processing annual COD renewals; that fee was included as overhead in other fees. The Biennial Review concluded that a minimal fee for annual COD renewals based on the full cost of providing that specific service would reliably decrease or eliminate the collections gap.

Table 1—NVDC Costs and Fees Collected, 2009
[In millions]
Full cost | Fees collected | Renewal fees collected | Difference
($11.30) | $5.30 | $0.00 | ($6.00)

In 2011, we conducted a comprehensive study to more accurately calculate the costs involved with the annual COD renewal process. Our “Full Cost Study for Renewal of Endorsements on Certificates of Documentation” focuses on the cost of annual COD renewals, updates the cost figures, and includes costs for the additional activities required to process collections. The cost study is available in the docket where indicated under the “Public Participation and Request for Comments” section in the preamble.

The average number of annual renewals for 2006-2010 was 235,000. The renewals accounted for approximately 65,000 commercial and 200,000 recreational vessels documented by the Coast Guard in 2010. Under this proposed rule, we anticipate that the cost for processing annual COD renewals and their associated fees would be approximately $6 million, as shown in Table 2. The full cost to provide the annual renewal service shown in Table 2 includes directly traced personnel costs calculated from timed activities, allocated personnel costs based on costs associated with personnel directly involved and in supporting roles, and other costs such as operating and administrative costs, facilities, and information systems costs.

Since COD renewal and collection services are provided with enough frequency, a reliable estimate of the average time involved was calculated. Personnel cost is calculated based on an hourly rate that represents the cost per hour or part thereof per employee. The employee cost is based on hourly rates found in COMDTINST 7310.1M, Coast Guard Reimbursable Standard Rates, available at http://uscg.mil/directives/ci/7000-7999/CI_7310_1M.PDF. The National Vessel Documentation Center (NVDC) anticipates that the method for collecting fees will be similar to the current process for late renewals, with some additional activities for processing the payment (collections) in accordance with U.S. law and federal guidance.¹ The total annual cost to operate the NVDC annual COD renewal program and collect fees is approximately $6 million; the proposed fee reflects this cost, and should close the current gap identified in the Biennial Review.

¹ The Department of the Treasury publishes regulations and guidance for federal agency management of receipts (31 CFR part 206 and the Treasury Financial Manual (www.fms.treas.gov/tfm/index.html)).

To calculate the annual renewal fee, we divided the total annual costs associated with the renewal program by the average number of annual renewals. The directly traced personnel costs are for those activities that were included in a timed study. These activities represent a small, mostly automated portion of the full process. The allocated personnel costs are other direct and indirect personnel costs that could not be included in the time study due to complexity of activities. Some of this cost is based on additional steps necessary to process applications with payments, which, at least initially, will be a manual rather than automated process. Other costs are non-personnel operating and are also allocated costs. The allocated cost is based on a percent of standard personnel costs for positions based on relative volume of renewals produced. Table 2 shows these costs.

Table 2—Cost Inputs for Renewal Fee
| Total cost | Average number of renewals per year | Cost per renewal
Directly traced Personnel Costs | $2,044,500 | 235,000 | $8.70
Allocated Personnel Costs | 1,695,799 | 235,000 | 7.21
Other Costs | 2,157,209 | 235,000 | 9.17
Total | 5,898,508 | 235,000 | 25.08
Note: These numbers may not total due to rounding.

This total cost to the Coast Guard is shown by the following equation: the total cost divided by the average number of renewals ($5,898,508/235,000 CODs = $25.08/COD), which results in an annual renewal fee of $25.08, which is rounded up to the next dollar, $26. This allows us to recover the full cost of providing this service.

When formulating this proposal, we also considered an alternate methodology to calculate the annual COD renewal fee. This alternative fee was derived from taking the average of the fees charged by each state on an annual basis. The average fee, on an annual basis, for the 50 states and the District of Columbia is approximately $42. This average, multiplied by the number of annual renewals, yields a value of approximately $10 million. Since the annual collections under this methodology would exceed the cost of providing the service, and full cost results provided a more reasonable fee, we rejected this alternative.

V. Regulatory Analyses

We developed this proposed rule after considering numerous statutes and executive orders related to rulemaking. Below, we summarize our analyses based on 14 of these statutes or executive orders.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. Two additional executive orders were recently published to promote the goals of Executive Order 13563: Executive Orders 13609 (“Promoting International Regulatory Cooperation”) and 13610 (“Indentifying and Reducing Regulatory Burdens”). Executive Order 13609 targets international regulatory cooperation to reduce, eliminate, or prevent unnecessary differences in regulatory requirements. Executive Order 13610 aims to modernize the regulatory systems and to reduce unjustified regulatory burdens and costs on the public.

Initially, this proposed rule had been designated a “significant regulatory action,” although not economically significant, under section 3(f) of Executive Order 12866. Accordingly, the NPRM was reviewed by the Office of Management and Budget. However, upon review, the Office of Managagement and Budget determined that this NPRM is not a significant regulatory action under section 3(f) of Executive Order 12866, “Regulatory Planning and Review,” as supplemented by Executive Order 13563, “Improving Regulation and Regulatory Review,” and does not require an assessment of potential costs and benefits under section 6(a)(3) of that Order. Nonetheless, we developed an analysis of the costs and benefits of the proposed rule to ascertain its probable impacts on industry.

The cost outlined in this proposed rule would represent a transfer payment from the public to the government to offset the costs to the U.S. Coast Guard to provide COD renewal services. The following table summarizes the costs and benefits of this proposed rule.

Table 3—Costs and Benefits of the Proposed Rule
Category | Estimate (millions)
Costs (Transfer Payments)
Annual Monetized Costs (undiscounted rounded values) | $6.1
10-year Present Value Monetized Costs (rounded values, 7% discount rate, discounting begins in first year) | 42.9
Benefits
Qualitative Benefits | This proposal would allow the Federal Government to recoup its costs for administering COD renewals, enabling the Coast Guard to continue offering these services to the public.

As discussed above, this proposed rule would require an annual renewal fee for all endorsements on the CODs. This fee, which is based on the costs that the Federal Government currently incurs to process renewals, along with additional costs due to increased need in labor and capital costs, would cost each vessel owner $26 per renewal.

The renewal fee that would be charged to the public under this proposed rule is based on the full cost to the Federal Government to provide this service. The renewal fee would allow the Federal Government to recoup those costs. The purpose of the renewal fee is to ensure that this service is self-sustaining. As such, the renewal fee would be determined by dividing the full, annual cost of providing the service by the average number of renewals over the past 5 years. The full, annual cost of providing this service includes all current costs, such as labor, capital, and overhead, plus additional labor and capital costs that will be required to process the additional fees collected. The following figure summarizes the annual cost estimate of the proposed rule. See the “Discussion of Proposed Rule” section and Table 2 for more detail on the data used for this estimate.

Figure 1. Total Annual Costs (Undiscounted)

Total Annual Proposed Cost = Renewal Fee × Average Number of Annual Renewals = $6.1 Million = $26 × 235,000 renewals.²

² Value may not total due to rounding.

The benefit of this proposed rule is to allow the Federal Government to recoup its costs for administering COD renewals, enabling the Coast Guard to continue offering these services to the public.

B. Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

For this proposed rule, we reviewed size and ownership data of affected entities by using data provided by the NVDC and public and proprietary data sources for company revenue and employee size data. We determined that there are approximately 18,164 entities owning 65,534 commercial vessels that would be impacted by this proposed rule.³ These entities include businesses and government jurisdictions. The remaining vessel population is comprised of recreational vessels that are not included in this initial regulatory flexibility analysis because these vessels are owned by individuals and individuals are not considered to be small entities for the purpose of the Regulatory Flexibility Act.

³ Data provided by the National Vessel Documentation Center.

To conduct our analysis, we chose a random sample of 400 affected entities.⁴ We were able to find revenue or employee size data for 88 of these entities using Web sites, such as MANTA and ReferenceUSA. This included 83 businesses and five government jurisdictions. We did not find any small not-for-profit organizations that are independently owned and operated and are not dominant in their fields.

⁴ A sample size of 400 provides a 95 percent confidence level at a confidence interval of 5.

To determine the size of the 83 businesses with available revenue or employee size data, we used the North American Industry Classification System (NAICS) codes to identify the line of business for the entities in our sample and compared the data found to the small business size standards determined by the Small Business Administration (SBA).⁵ Of the entities with data, 70 are considered small by SBA size standards and 13 exceeded SBA size standards for small businesses. We also assume that those entities without data available are small.

⁵ SBA has established a Table of Small Business Size Standards, which is matched to the North American Industry Classification System (NAICS) industries. A size standard, which is usually stated in number of employees or average annual receipts (“revenues”), represents the largest size that a business (including its subsidiaries and affiliates) may be to remain classified as a small business for SBA and Federal contracting programs. See http://www.sba.gov/size.

To determine the size of the five affected government jurisdictions, we used the definition from the Regulatory Flexibility Act § 601(5), which classifies small government jurisdictions as jurisdictions with a population of less than 50,000. Of the five government jurisdictions, one has a population of less than 50,000, and would therefore be considered small.

As such, we estimate that more than 95 percent of all entities that would be affected by this proposed rule are small entities. We do not anticipate a significant economic impact to these small entities as a result of this proposed rule. This proposed rule would require that all entities renewing the endorsements on their COD pay an annual renewal fee of $26 per documented vessel. This proposed rule impacts a diverse set of industry sectors with a wide range of fleet sizes and revenues. Table 4 provides example data for three affected small businesses that represent the upper, lower, and median values for revenue, fleet size, and cost found within the sample population. Our research shows that those entities with the largest fleets, as thus a greater incurred cost, also have the highest reported revenue in our sample.

Table 4—Example Revenue, Vessel Count, and Cost for Three Affected Small Entities
Category | Small entity representing lower bound | Small entity representing median | Small entity representing upper bound
Revenue per Entity | $15,000 | $336,000 | $12,000,000*
Vessel Count | 1 | 2 | 6.
Costs per Entity | $26 | $52 | $156.
Percent Impact of Renewal Fees on Revenues | Less than 0.2% | Less than 0.02% | Approximately 0.0013%.
*Note: The small entity with this revenue is classified under NAICS 336611, Ship Building and Repairing, and has an SBA size standard of 1,000 employees. This means entities in this industry with 1,000 or fewer employees would be considered small. This entity has 54 employees and was determined small even though its annual revenues are $12 million.

By multiplying the renewal fee by the number of documented vessels owned by each entity analyzed from our sample, we were able to calculate the cost per entity from this proposed rule. We then used that cost to determine a percentage of revenue impact on the entity by dividing the total cost per entity by the revenue. This analysis showed that the impact from this proposed rule would be less than 1 percent of annual revenue for small businesses in the sample.

The one small government jurisdiction in our sample operated three vessels that would require COD renewals for a total of $78 in annual COD renewal fees. Given that the cost to this small government jurisdiction is only $78, we expect this proposed rule would not cause a significant economic impact.

Therefore, the Coast Guard certifies under 5 U.S.C. 605(b) that this proposed rule would not have a significant economic impact on a substantial number of small entities. If you think that your business, organization, or governmental jurisdiction qualifies as a small entity and that this rule would have a significant economic impact on it, please submit a comment to the Docket Management Facility at the address under ADDRESSES. In your comment, explain why you think it qualifies and how and to what degree this rule would economically affect it.

C. Assistance for Small Entities

Under section 213(a) of the Small Business Regulatory Enforcement Fairness Act of 1996 (Pub. L. 104-121), we want to assist small entities in understanding this proposed rule so that they can better evaluate its effects on them and participate in the rulemaking. If the proposed rule would affect your small business, organization, or governmental jurisdiction and you have questions concerning its provisions or options for compliance, please consult Mary Jager, CG-DCO-832, Coast Guard; telephone 202-372-1331, email Mary.K.Jager@uscg.mil. The Coast Guard will not retaliate against small entities that question or complain about this rule or any policy or action of the Coast Guard.

D. Collection of Information

This proposed rule calls for no new collection of information under the Paperwork Reduction Act of 1995 (44 U.S.C. 3501-3520).

E. Federalism

A rule has implications for federalism under Executive Order 13132, Federalism, if it has a substantial direct effect on state or local governments and would either preempt state law or impose a substantial direct cost of compliance on them. We have analyzed this proposed rule under that Order and have determined that it does not have implications for federalism.

F. Unfunded Mandates Reform Act

The Unfunded Mandates Reform Act of 1995 (2 U.S.C. 1531-1538) requires Federal agencies to assess the effects of their discretionary regulatory actions. In particular, the Act addresses actions that may result in the expenditure by a state, local, or tribal government, in the aggregate, or by the private sector of $100,000,000 (adjusted for inflation) or more in any one year. Though this proposed rule would not result in such an expenditure, we do discuss the effects of this rule elsewhere in this preamble.

G. Taking of Private Property

This proposed rule would not cause a taking of private property or otherwise have taking implications under Executive Order 12630, Governmental Actions and Interference with Constitutionally Protected Property Rights.

H. Civil Justice Reform

This proposed rule meets applicable standards in sections 3(a) and 3(b)(2) of Executive Order 12988, Civil Justice Reform, to minimize litigation, eliminate ambiguity, and reduce burden.

I. Protection of Children

We have analyzed this proposed rule under Executive Order 13045, Protection of Children from Environmental Health Risks and Safety Risks. This proposed rule is not an economically significant rule and would not create an environmental risk to health or risk to safety that might disproportionately affect children.

J. Indian Tribal Governments

To determine whether the proposed rule would have an impact on any Indian tribal governments, we queried Marine Safety Information Law Enforcement (MISLE) to obtain a list of vessels potentially owned by Indian tribes. We discovered that there are approximately six different tribes with nine vessels that are documented. There are a very small number of vessels per tribe and we do not believe that the proposed rule would have a substantial impact on any of the tribes. Consequently, we have initially determined that this proposed rule does not have tribal implications under Executive Order 13175, Consultation and Coordination with Indian Tribal Governments, because it would not have a substantial direct effect on one or more Indian tribes, on the relationship between the Federal Government and Indian tribes, or on the distribution of power and responsibilities between the Federal Government and Indian tribes.

The Coast Guard recognizes the treaty rights of Native American Tribes. Moreover, the Coast Guard is committed to working with Tribal Governments to develop rules and to mitigate tribal concerns. Indian Tribes that have questions concerning the provisions of this proposed rule or believe that our initial determination is incorrect are encouraged to submit information to the docket for review and consideration.

K. Energy Effects

We have analyzed this proposed rule under Executive Order 13211, Actions Concerning Regulations That Significantly Affect Energy Supply, Distribution, or Use. We have determined that it is not a “significant energy action” under that order. Though it is a “significant regulatory action” under Executive Order 12866, it is not likely to have a significant adverse effect on the supply, distribution, or use of energy. The Administrator of the Office of Information and Regulatory Affairs has not designated it as a significant energy action. Therefore, it does not require a Statement of Energy Effects under Executive Order 13211.

L. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

M. Environment

We have analyzed this proposed rule under Department of Homeland Security Management Directive 023-01 and Commandant Instruction M16475.lD, which guide the Coast Guard in complying with the National Environmental Policy Act of 1969 (NEPA)(42 U.S.C. 4321-4370f), and have made a preliminary determination that this action is one of a category of actions that do not individually or cumulatively have a significant effect on the human environment. A preliminary environmental analysis checklist supporting this determination is available in the docket where indicated under the “Public Participation and Request for Comments” section of this preamble. This proposed rule involves a new annual fee for renewals of endorsements upon the COD and falls under paragraph 34(a) of the Coast Guard's NEPA Implementing Procedures and Policy for Considering Environmental Impacts, COMDTINST M16475.1D. We seek any comments or information that may lead to the discovery of a significant environmental impact from this proposed rule.

List of Subjects in 46 CFR Part 67

Reporting and recordkeeping requirements, Vessels.

For the reasons discussed in the preamble, the Coast Guard proposes to amend 46 CFR part 67 as follows:

PART 67—DOCUMENTATION OF VESSELS

1. The authority citation for 46 CFR part 67 continues to read as follows:

Authority: 14 U.S.C. 664; 31 U.S.C. 9701; 42 U.S.C. 9118; 46 U.S.C. 2103, 2107, 2110, 12106, 12120, 12122; 46 U.S.C. app. 841a, 876; Department of Homeland Security Delegation No. 0170.1.

§ 67.500 [Amended]

2. In § 67.500, remove and reserve paragraph (b).

3. Revise § 67.515 to read as follows:

§ 67.515 Application for renewal of endorsements.

An application fee is charged for annual renewal of endorsements on Certificates of Documentation in accordance with subpart L of this part.

4. Revise § 67.517 to read as follows:

§ 67.517 Application for late renewal.

In addition to any other fees required by this subpart, including a renewal fee, a fee is charged for a late renewal in accordance with subpart L of this part.

5. Revise Table 67.550 to read as follows:

§ 67.550 Fee table.

* * * * *

Table 67.550—Fees
Activity | Reference | Fee
Applications:
Initial Certificate of Documentation | Subpart K | $133.00
Exchange of Certificate of Documentation | do | 84.00
Return of vessel to documentation | do | 84.00
Replacement of lost or mutilated Certificate of Documentation | do | 50.00
Approval of exchange of Certificate of Documentation requiring mortgagee consent | do | 24.00
Trade endorsement(s):
Coastwise endorsement | Subpart B | 29.00
Coastwise Boaters endorsement | 46 CFR part 68 | 29.00
Fishery endorsement | do | 12.00
Registry endorsement | do | none
Recreational endorsement | do | none
Note: When multiple trade endorsements are requested on the same application, the single highest applicable endorsement fee will be charged, resulting in a maximum endorsement fee of $29.00
Evidence of deletion from documentation | Subpart L | 15.00
Renewal fee | do | 26.00
Late renewal fee | do | ³ 5.00
Waivers:
Original build evidence | Subpart F | 15.00
Bill of sale eligible for filing and recording | Subpart E | 15.00
Miscellaneous applications:
Wrecked vessel determination | Subpart J | 555.00
New vessel determination | Subpart M | 166.00
Rebuild determination—preliminary or final | do | 450.00
Filing and recording:
Bills of sale and instruments in nature of bills of sale | Subpart P | ¹ 8.00
Mortgages and related instruments | Subpart Q | ¹ 4.00
Notice of claim of lien and related instruments | Subpart R | ¹ 8.00
Certificate of compliance:
Certificate of compliance | 46 CFR part 68 | 55.00
Miscellaneous:
Abstract of Title | Subpart T | 25.00
Certificate of ownership | do | 125.00
Attachment for each additional vessel with same ownership and encumbrance data | do | 10.00
Copy of instrument or document | (²) | (²)
¹ Per page.
² Fees will be calculated in accordance with 6 CFR Part 5, Subpart A.
³ Late renewal fee is in addition to the $26.00 renewal fee.

Dated: February 21, 2013.
Paul F. Thomas,
Director of Inspections and Compliance, U.S. Coast Guard.

[FR Doc. 2013-04866 Filed 3-1-13; 8:45 am]

BILLING CODE 9110-04-P